DEPARTMENT OF TRANSPORTATION

Federal Motor Carrier Safety Administration

[Docket Nos. FMCSA-2008-0362 and FMCSA-2006-26367]

Motor Carrier Safety Advisory Committee (MCSAC) and Medical Review Board (MRB) Meetings: Public Meetings

AGENCY: Federal Motor Carrier Safety Administration (FMCSA), DOT.

ACTION: Announcement of advisory committee public meetings.

SUMMARY: FMCSA announces a joint meeting of its Motor Carrier Safety Advisory Committee (MCSAC) and Medical Review Board (MRB) on October 27, 2014, and a meeting of the MCSAC on Tuesday, October 28. MCSAC and the MRB will jointly identify concepts the Agency should consider in relation to Schedule II medications and their use by commercial motor vehicle (CMV) drivers in interstate commerce. This follows the MRB's consideration of the effects of Schedule II medications on CMV drivers' ability to operate safely on September 11, 2013, and July 29-30, 2014. On Tuesday, October 28, the MCSAC will meet to finalize its deliberations on financial responsibility requirements for motor carriers and to consider the findings of its Subcommittee on the Long-Haul Cross-Border Trucking Pilot Program with Mexico. Meetings are open to the public for their entirety, and there will be a public comment period at the end of each day.

DATES: Times and Dates: The joint meeting will be held on Monday, October 27, 2014, from 9 a.m. to 4:30 p.m., Eastern Daylight Time (E.T.), at the Hilton Alexandria Old Town, 1767 King Street, Alexandria, VA 22314 in the Washington and Jefferson Rooms on the 2nd floor. On Tuesday, October 28, the MCSAC will meet at that same location from 9 a.m. to 4:30 p.m., E.T. Copies of all MRB and MCSAC Task Statements and an agenda for the entire meeting will be made available in advance of the meeting at http://mrb.fmcsa.dot.gov and http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Eran Segev at (617) 494-3174, eran.segev@dot.gov, by Wednesday, October 22.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The Moving Ahead for Progress in the 21st Century Act (MAP-21, Pub. L. 112-141) reauthorized the MCSAC through September 30, 2013, at which time its statutory authority expired, necessitating the establishment of MCSAC as a discretionary committee under FACA. Secretary Foxx established that effective September 30, 2013, through September 30, 2015. MCSAC provides advice and recommendations to the FMCSA Administrator on motor carrier safety programs and regulations, and operates in accordance with the Federal Advisory Committee Act (FACA, 5 U.S.C. App 2).

MRB

The MRB is composed of five medical experts who each serve 2-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2013.

II. Meeting Participation

Oral comments from the public will be heard during the last half-hour of the meetings each day. Should all public comments be exhausted prior to the end of the specified period, the comment period will close. Members of the public may submit written comments on the topics to be considered during the meeting by Wednesday, October 22, to Federal Docket Management System (FDMC) Docket Number FMCSA-2008-0362 for the MRB and FMCSA-2006-26367 for the MCSAC using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: October 6, 2014.
Larry W. Minor,
Associate Administrator for Policy.

[FR Doc. 2014-24364 Filed 10-8-14; 4:15 pm]

BILLING CODE 4910-EX-P